DEPARTMENT OF ENERGY

Federal Energy Regulatory Commission

[Project No. 4608-006]

Richard Kaster, BC Hydro, LLC; Notice of Transfer of Exemption

1. By letter filed April 23, 2014, Richard Kaster informed the Commission that the exemption from licensing for the Kaster Riverview Project, FERC No. 4608, originally issued February 26, 1982,¹ has been transferred to BC Hydro, LLC. The project is located on Box Canyon Springs in Twin Falls County, Idaho. The transfer of an exemption does not require Commission approval.

¹ 18 FERC ¶ 62,320, Order Granting Exemption From Licensing of a Small Hydroelectric Project of 5 Megawatts or Less.

2. BC Hydro, LLC is now the exemptee of the Kaster Riverview Project, FERC No. 4608. All correspondence should be forwarded to: Mr. Scott Kaster, Hydro Plus, 4580 Clear Lakes Rd., Buhl, ID 83316, and Mr. Rick Kaster, Energy Systems, 208 Sunny Hill Circle, Twin Falls, ID 83301.

Dated: June 24, 2014.
Kimberly D. Bose,
Secretary.

[FR Doc. 2014-15221 Filed 6-27-14; 8:45 am]

BILLING CODE 6717-01-P